FEDERAL COMMUNICATIONS COMMISSION

47 CFR Parts 1, 22, 27, 73, and 74

[MM Docket No. 93-177; FCC 13-115]

An Inquiry Into the Commission's Policies and Rules Regarding AM Radio Service Directional Antenna Performance Verification

AGENCY: Federal Communications Commission.

ACTION: Final rule; correction.

SUMMARY: The Federal Communications Commission (Commission) is correcting final rules that appeared in the Federal Register of 78 FR 66288, November 5, 2013. The document issued final rules that establish a single protection scheme for tower construction and modification near AM tower arrays and designate “moment method” computer modeling as the principal means of determining whether a nearby tower affects an AM radiation pattern. This correction makes no change to the substance of the rules.

DATES: Effective December 5, 2013, except for amendments to 47 CFR 1.30002, 1.30003, 1.30004, 73.875, 73.1675, and 73.1690, which contain new and revised information collection requirements that have not been approved by the Office of Management and Budget (OMB). The Commission will publish a document in the Federal Register announcing the effective date.

Applicability date: The applicability date of the amendments to 47 CFR 1.30000, 1.30001, 22.371, 27.63, 73.45, 73.316, 73.685, 73.1692, 73.6025, and 74.1237 is indefinitely delayed. The FCC will publish a document in the Federal Register announcing the applicability date.

FOR FURTHER INFORMATION CONTACT: Peter Doyle, Chief, Media Bureau, Audio Division, (202) 418-2700 or Peter.Doyle@fcc.gov; or Susan Crawford, Assistant Division Chief, Media Bureau, Audio Division, (202) 418-2700 or Susan.Crawford@fcc.gov.

SUPPLEMENTARY INFORMATION: This document makes the following correction to the final rules published November 5, 2013, 78 FR 66288 in FR Doc. 2013-24139:

On page 66295, correct amendatory instruction 2 and its corresponding subpart heading to read as follows:

2. Add Subpart BB to part 1, to read as follows:

Subpart BB—Disturbance of AM Broadcast Station Antenna Patterns

* * * * *

Federal Communications Commission.
Marlene H. Dortch,
Secretary

[FR Doc. 2013-28234 Filed 11-25-13; 8:45 am]

BILLING CODE 6712-01-P